ENVIRONMENTAL PROTECTION AGENCY

40 CFR Part 52

[Docket No. EPA-R02-OAR-2008-0004; FRL-8539-1]

Approval and Promulgation of Implementation Plans; Reasonably Available Control Technology for Oxides of Nitrogen for a Specific Source in the State of New Jersey

AGENCY: Environmental Protection Agency.

ACTION: Proposed rule.

SUMMARY: The Environmental Protection Agency (EPA) is proposing to approve a revision to the State Implementation Plan (SIP) for ozone submitted by the State of New Jersey. This SIP revision consists of a source-specific reasonably available control technology (RACT) determination for controlling oxides of nitrogen from the stationary internal combustion engines and boilers operated by the Trigen-Trenton Energy Co., L.P. This action proposes an approval of the source specific RACT determination that was made by New Jersey in accordance with the provisions of its regulation to help meet the national ambient air quality standard for ozone. The intended effect of this proposed rule is to approve source-specific emissions limitations required by the Clean Air Act.

DATES: Comments must be received on or before April 7, 2008.

ADDRESSES: Submit your comments, identified by Docket Number EPA-R02-OAR-2008-0004, by one of the following methods:

• www.regulations.gov: Follow the on-line instructions for submitting comments.

• E-mail: Werner.Raymond@epa.gov.

• Fax: 212-637-3901

• Mail: Raymond Werner, Chief, Air Programs Branch, Environmental Protection Agency, Region 2 Office, 290 Broadway, 25th Floor, New York, New York 10007-1866.

• Hand Delivery: Raymond Werner, Chief, Air Programs Branch, Environmental Protection Agency, Region 2 Office, 290 Broadway, 25th Floor, New York, New York 10007-1866. Such deliveries are only accepted during the Regional Office's normal hours of operation. The Regional Office's official hours of business are Monday through Friday, 8:30 to 4:30 excluding Federal holidays.

Instructions: Direct your comments to Docket No. EPA-R02-OAR-2008-0004. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters or any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region II Office, Air Programs Branch, 290 Broadway, 25th Floor, New York, New York 10007-1866. EPA requests, if at all possible, that you contact the individual listed in the FOR FURTHER INFORMATION CONTACT section to view the hard copy of the docket. You may view the hard copy of the docket Monday through Friday, 8 a.m. to 4 p.m., excluding Federal holidays.

FOR FURTHER INFORMATION CONTACT: Gavin Lau, Air Programs Branch, Environmental Protection Agency, 290 Broadway, 25th Floor, New York, New York 10007-1866, (212) 637-3708 or Lau.Gavin@epa.gov.

SUPPLEMENTARY INFORMATION:

Table of Contents

I. EPA's Proposed Action

A. What Action Is EPA Proposing Today?

B. Why Is EPA Proposing This Action?

C. What Are the Clean Air Act Requirements for NOX RACT?

D. What Is EPA's Evaluation of New Jersey's SIP Revision?

II. New Jersey's SIP Revision

A. What Are New Jersey's NOX RACT Requirements?

B. What Are New Jersey's Facility-Specific NOX RACT Requirements?

C. When Was New Jersey's RACT Determination Proposed and Adopted?

D. When Was New Jersey's SIP Revision Submitted to EPA?

III. Conclusion

VI. Statutory and Executive Order Reviews

I. EPA's Proposed Action

A. What Action Is EPA Proposing Today?

EPA is proposing to approve New Jersey's revision to the ozone State Implementation Plan (SIP) submitted on August 7, 2007. This SIP revision relates to New Jersey's NOX RACT determination for the Trigen-Trenton Energy Co. L.P. (Trigen) facility located in Trenton, Mercer County. The facility contains two stationary reciprocating internal combustion engines and two boilers vented through a common stack.

B. Why Is EPA Proposing This Action?

EPA is proposing this action to:

• Give the public the opportunity to submit comments on EPA's proposed action, as discussed in the DATES and ADDRESSES sections.

• Fulfill New Jersey's and EPA's requirements under the Clean Air Act (Act).

• Make New Jersey's RACT determination federally-enforceable.

C. What Are the Clean Air Act Requirements for NOX RACT?

The Act requires certain states to develop RACT regulations for stationary sources of NOX and to provide for the implementation of the required measures as soon as practicable. Under the Act, the definition of a major stationary source is based on the tons per year (tpy) of air pollution a source emits and the quality of the air in the area of a source. In ozone transport regions, attainment/unclassified areas as well as marginal and moderate ozone attainment areas, a major stationary source for NOX is considered to be one which emits or has the potential to emit 100 tpy or more of NOX and is subject to the requirements of a moderate nonattainment area. New Jersey is within the Northeast ozone transport region, established by section 184(a) of the Act, and has defined a major stationary source of NOX as a source which has the potential to emit 25 tpy, the level set for severe nonattainment areas. For detailed information on the Act requirements for NOX RACT see the Technical Support Document (TSD), prepared in support of this proposed action. A copy of the TSD is available upon request from the EPA Regional Office listed in the ADDRESSES section or it can be viewed at www.regulations.gov.

D. What Is EPA's Evaluation of New Jersey's SIP Revision?

EPA has determined that New Jersey's SIP revision for the NOX RACT determination for Trigen's engines and boilers is consistent with New Jersey's NOX RACT regulation and EPA's guidance. EPA's basis for evaluating New Jersey's SIP revision is whether it meets the SIP requirements described in section 110 of the Act. EPA has determined that New Jersey's SIP revision will not interfere with any applicable requirement concerning attainment and reasonable further progress, or any other applicable requirement to the Act.

After reviewing New Jersey's SIP revision submittal, EPA found it administratively and technically complete. EPA has determined that the NOX emission limits identified in New Jersey's Conditions of Approval document represent RACT for Trigen's engines and boilers. The conditions contained in the Conditions of Approval Document currently specify emissions limits, work practice standards, testing, monitoring, and recordkeeping/reporting requirements. These conditions are consistent with the NOX RACT requirements specified in Subchapter 19 of Chapter 27, Title 7 of the New Jersey Administrative Code and conform to EPA NOX RACT guidance. More specifically, EPA proposes to approve the current Conditions of Approval document which includes an alternative emissions limit for the Trigen engines and boilers while operating on dual fuel and low sulfur distillate oil. While burning dual fuel, Trigen will comply with the NOX RACT limit of 2.3 g/bhp-hr. Under conditions specified for burning low sulfur distillate oil, emissions of NOX from the engines and boilers shall not exceed 12 g/bhp-hr. The use of low sulfur distillate oil is limited to 200 hours per year per engine during startup, shutdown, injector cleanout, major component break-in and during emergencies. Trigen is also limited to using low sulfur distillate oil for only one engine at any time, excluding times of natural gas curtailment or emergency. Please note there may be other requirements, such as adequate monitoring, which States and sources will need to provide for, through the Title V permitting process.

II. New Jersey's SIP Revision

A. What Are New Jersey's NOX RACT Requirements?

New Jersey's NOX RACT requirements are contained in Subchapter 19, entitled “Control of Oxides of Nitrogen”, of Chapter 27, Title 7 of the New Jersey Administrative Code. New Jersey has made numerous revisions to Subchapter 19 since the original SIP submission. The current SIP approved version of Subchapter 19 has an effective date of October 17, 2005 and was approved by EPA on July 31, 2007.

B. What Are New Jersey's Facility-Specific NOX RACT Requirements?

Section 19.13 of New Jersey's regulation establishes a procedure for what a case-by-case determination of what represents RACT for a major NOX facility, item of equipment, or source operation. This procedure applies to facilities considered major for NOX, which are in one of the following two situations: (1) Except for non-utility boilers, if the NOX facility contains any source operation or item of equipment of a category not listed in section 19.2 which has the potential to emit more than 10 tons of NOX per year, or (2) if the owner or operator of a source operation or item of equipment of a category listed in section 19.2 seeks approval of an alternative maximum allowable emission rate. This proposal relates to a facility in the second situation listed above.

New Jersey's procedure requires either submission of a NOX control plan, if specific emission limitations do not apply to the specific source, or submission of a request for an alternative maximum allowable emission rate if specific emission limitations do apply to the specific source. In either case, the owners/operators must include a technical and economic feasibility analysis of the possible alternative control measures. Also, in either case, subchapter 19 requires that New Jersey establish emission limits which rely on a RACT determination specific to the facility. The resulting NOX control plan or alternative maximum allowable emission rate must be submitted to EPA for approval as a SIP revision.

C. When Was New Jersey's RACT Determination Proposed and Adopted?

New Jersey's RACT determination was proposed on December 11, 2006, with the public comment period ending January 10, 2007. New Jersey adopted the RACT determination on January 11, 2007.

D. When Was New Jersey's SIP Revision Submitted to EPA?

New Jersey's SIP revision was submitted to EPA on August 7, 2007. EPA determined that the submittal was administratively and technically complete on December 3, 2007.

III. Conclusion

EPA is proposing to approve the New Jersey SIP revision for an alternative RACT emission limit determination for the Trigen-Trenton Energy Co. L.P engines and boilers. This SIP revision contains source-specific NOX emission limitations for Trigen. EPA will consider all comments submitted prior to any final rulemaking action.

IV. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Act. This proposed rule also is not subject to Executive Order 13045, “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Incorporation by reference, Intergovernmental relations, Nitrogen dioxides, Ozone, Reporting and recordkeeping requirements, Volatile organic compounds.

Authority: 42 U.S.C. 7401 et seq.

Dated: February 26, 2008.
Alan J. Steinberg,
Regional Administrator, Region 2.

[FR Doc. E8-4346 Filed 3-5-08; 8:45 am]

BILLING CODE 6560-50-P